ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, November 8-10, 2010, at the times and location noted below.

DATES: The schedule of events is as follows:

Monday, November 8, 2010

9:30-Noon Public Hearing: Americans with Disabilities Act Accessibility Guidelines for Transportation Vehicles; Proposed Rule.

1:30-5 p.m. Ad Hoc Committee Meetings: Closed to Public.

Tuesday, November 9, 2010

9:30-11 a.m. Planning and Evaluation Committee.

11-Noon Budget Committee.

1:30-2:30 p.m. Technical Programs Committee.

2:30-4 p.m. Frontier Issues Ad Hoc Committee.

Wednesday, November 10, 2010

9:30-Noon Ad Hoc Committee Meetings: Closed to Public.

1:30-3 p.m. Board Meeting.

ADDRESSES: All meetings will be held at the Access Board Conference Room, 1331 F Street, NW., suite 800, Washington, DC 20004.

FOR FURTHER INFORMATION CONTACT: For further information regarding the meetings, please contact David Capozzi, Executive Director, (202) 272-0010 (voice) and (202) 272-0082 (TTY).

SUPPLEMENTARY INFORMATION: At the Board meeting scheduled on the afternoon of Wednesday, November 10, 2010, the Access Board will consider the following agenda items:

• Approval of the draft July 28, 2010 meeting minutes.

• Budget Committee Report.

• Planning and Evaluation Committee Report.

• Technical Programs Committee Report.

• Ad Hoc Committee Reports.

• Executive Director's Report.

• ADA and ABA Guidelines; Federal Agency Updates.

• Public Comment, Open Topics.

All meetings are accessible to persons with disabilities. An assistive listening system, computer assisted real-time transcription (CART), and sign language interpreters will be available at the Board meetings and hearing. Persons attending Board meetings are requested to refrain from using perfume, cologne, and other fragrances for the comfort of other participants (see http://www.access-board.gov/about/policies/fragrance.htm for more information).

David M. Capozzi,
Executive Director.

[FR Doc. 2010-27102 Filed 10-26-10; 8:45 am]

BILLING CODE 8150-01-P